DEPARTMENT OF TRANSPORTATION

Federal Aviation Administration

14 CFR Part 71

[Docket No. FAA-2017-1195; Airspace Docket No. 17-AEA-24]

RIN 2120-AA66

Amendment of Class D Airspace and Class E Airspace; Erie, PA

AGENCY: Federal Aviation Administration (FAA), DOT.

ACTION: Final rule.

SUMMARY: This action amends Class D airspace, Class E surface area airspace and Class E airspace designated as an extension to a Class D surface area, by updating the name to Erie International Airport/Tom Ridge Field, Erie, PA. This action also amends Class E airspace extending upward from 700 feet above the surface in Erie, PA, by updating the name to St. Vincent Health Center Heliport. This action also updates the geographic coordinates of the airport and heliport, and replaces the outdated term “Airport/Facility Directory” with the term “Chart Supplement” in the legal descriptions of associated Class D and E airspace to match the FAA's aeronautical database. The Class E surface airspace is further clarified showing removal of the extensions, and the Class E extension airspace is further clarified showing removal of the part-time Notice to Airmen (NOTAM) language.

DATES: Effective 0901 UTC, July 19, 2018. The Director of the Federal Register approves this incorporation by reference action under Title 1 Code of Federal Regulations part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Ave, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace in the Erie, PA area, to support IFR operations under standard instrument approach procedures at Erie International Airport/Tom Ridge Field, and St. Vincent Health Center Heliport.

History

The FAA published a notice of proposed rulemaking (NPRM) in the Federal Register (83 FR 8210, February 26, 2018) for Docket No. FAA-2017-1195 to amend Class D airspace and Class E surface airspace, Class E airspace designated as an extension to a Class D surface area, and Class E airspace extending upward from 700 feet or more above the surface at Erie International Airport/Tom Ridge Field and St. Vincent Health Center Heliport, Erie, PA.

Interested parties were invited to participate in this rulemaking effort by submitting written comments on the proposal to the FAA. No comments were received.

The FAA further clarifies the rule by adding that the Class E surface airspace extensions are removed from the legal description, and the part-time Notice to Airmen (NOTAM) language is removed from the Class E extension airspace legal description. There is no practical change to the airspace as proposed by the FAA, only that we are revising it because it did not accurately describe what we proposed.

Except as described above, this rule is the same as published in the NPRM.

Class D and E airspace designations are published in paragraph 5000, 6002, 6004, and 6005, respectively, of FAA Order 7400.11B dated August 3, 2017, and effective September 15, 2017, which is incorporated by reference in 14 CFR part 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to Title 14 Code of Federal Regulations (14 CFR) part 71 amends Class D airspace, and Class E surface area airspace, and Class E airspace designated as an extension to a Class D surface area, by updating the airport name to Erie International Airport/Tom Ridge Field (formerly Erie International Airport). The geographic coordinates of the airport, in all airspace classes are adjusted to coincide with the FAA's aeronautical database.

Also, this action removes the airspace extensions from the Class E surface airspace legal description of the airport as it duplicates the Class E airspace designated as an extension to a Class D surface area (which is now continuous). This action also removes the part-time NOTAM language from the Class E airspace designated as an extension (inadvertently omitted in the NPRM).

Additionally, this action makes an editorial change to the airspace legal description replacing “Airport/Facility Directory” with “Chart Supplement” in the associated airspace.

This action also amends Class E airspace extending upward from 700 feet above the surface by updating the airport name to Erie International Airport/Tom Ridge Field (formerly Erie International Tom Ridge Field Airport), and the heliport name to St. Vincent Health Center Heliport (formerly Life Star Base Heliport), Erie, PA, to be in concert with the FAA's aeronautical database.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71 —DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

AEA PA D Erie, PA [Amended]

Erie International Airport/Tom Ridge Field, PA

(Lat. 42°04″59″ N, long. 80°10′26″ W)

That airspace extending upward from the surface to and including 3,200 feet MSL within a 4.2-mile radius of Erie International Airport/Tom Ridge Field. This Class D airspace area is effective during the specific days and times established in advance by a Notice to Airmen. The effective days and times will thereafter be continuously published in the Chart Supplement.

Paragraph 6002 Class E Surface Area Airspace.

* * * * *

AEA PA E2 Erie, PA [Amended]

Erie International Airport/Tom Ridge Field, PA

(Lat. 42°04′59″ N, long. 80°10′26″ W)

That airspace extending upward from the surface within a 4.2-mile radius of Erie International Airport/Tom Ridge Field. This Class E airspace area is effective during the specific days and times established in advance by a Notice to Airmen. The effective days and times will thereafter be continuously published in the Chart Supplement.

Paragraph 6004 Class E Airspace Designated as an Extension to a Class D Surface Area.

* * * * *

AEA PA E4 Erie, PA [Amended]

Erie International Airport/Tom Ridge Field, PA

(Lat. 42°04′59″ N, long. 80°10′26″ W)

Erie VORTAC

(Lat. 42°01′03″ N, long. 80°17′34″ W)

Erie Localizer RWY 6

(Lat. 42°05′30″ N, long. 80°09′22″ W)

That airspace extending upward from the surface extending northeast of the Erie International Airport/Tom Ridge Field 4.2-mile radius from within 4 miles northwest of the Erie VORTAC 054° radial to 3.5 miles southeast of the Erie ILS localizer northeast course then extending southwest from a point located along the Erie localizer northeast course 9.2 miles northeast of lat. 42°07′30″ N, long. 80°05'36”W, to the 4.2-mile radius of the airport.

Paragraph 6005 Class E Airspace Areas Extending Upward From 700 Feet or More Above the Surface of the Earth.

* * * * *

AEA PA E5 Erie, PA [Amended]

Erie International Airport/Tom Ridge Field, PA

(Lat. 42°04′59″ N, long. 80°10′26″ W)

St. Vincent Health Center Heliport, PA

(Lat. 42°06′43″ N, long. 80°04′51″ W)

That airspace extending upward from 700 feet above the surface within a 6.7-mile radius of Erie International Airport/Tom Ridge Field, and within 4.4 miles each side of the 054° bearing from the airport extending from the 6.7-mile radius to 14 miles northeast of the airport and within a 6-mile radius of St. Vincent Health Center Heliport.

Issued in College Park, Georgia, on May 16, 2018.
Ryan W. Almasy,
Manager, Operations Support Group, Eastern Service Center, Air Traffic Organization.

[FR Doc. 2018-10939 Filed 5-22-18; 8:45 am]

BILLING CODE 4910-13-P